ENVIRONMENTAL PROTECTION AGENCY

[ER-FRL-9053-6]

Environmental Impact Statements; Notice of Availability

Responsible Agency: Office of Federal Activities, General Information 202-564-5632 or https://www.epa.gov/nepa.

Weekly receipt of Environmental Impact Statements (EIS)

Filed October 19, 2020 10 a.m. EST Through October 26, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200209, Final, BIA, MI, Little River Band of Ottawa Indians, Michigan Trust Acquisition and Casino Project, Review Period Ends: 11/30/2020, Contact: Scott Doig 612-725-4514.

EIS No. 20200210, Draft, STB, UT, Uinta Basin Railway, Comment Period Ends: 12/14/2020, Contact: Joshua Wayland 202-245-0330.

EIS No. 20200211, Draft, MDA, AK, Long Range Discrimination Radar Operations, Clear Air Force Station, Alaska, Comment Period Ends: 12/21/2020, Contact: Ryan Keith 256-450-1599.

EIS No. 20200212, Third Draft Supplemental, USFS, AK, Kensington Gold Mine Plan of Operations Amendment 1, Comment Period Ends: 12/14/2020, Contact: Matthew Reece 907-789-6274.

EIS No. 20200213, Final, FHWA, WI, South Bridge Connector, Brown County, Wisconsin, Tier I, Contact: Ian Chidister 608-829-7503.

Pursuant to 23 U.S.C. 139(n)(2), FHWA has issued a single document that consists of a final environmental impact statement and record of decision. Therefore, the 30-day wait/review period under NEPA does not apply to this action.

EIS No. 20200214, Draft, FHWA, SC, Interstate 526 Lowcountry Corridor West, Comment Period Ends: 01/15/2021, Contact: Jeffrey (Shane) Belcher 803-253-3187.

EIS No. 20200215, Draft, USFS, OR, Stella Restoration Project, Comment Period Ends: 12/14/2020, Contact: Elizabeth Bly 541-560-3465.

EIS No. 20200216, Draft, NPS, FL, Big Cypress National Preserve Backcountry Access Plan, Comment Period Ends: 12/15/2020, Contact: Joshua Boles 561-492-7340.

EIS No. 20200217, Draft, USACE, TX, Coastal Texas Protection and Restoration Feasibility Study, Comment Period Ends: 12/14/2020, Contact: Jeff Pinsky 409-766-3039.

Amended Notice

EIS No. 20200198, Final, TxDOT, TX, North Houston Highway Improvement Project, Review Period Ends: 12/09/2020, Contact: Carlos Swonke 512-416-2734.

Revision to FR Notice Published 10/9/2020; Extending the Comment Period from 11/9/2020 to 12/9/2020.

Dated: October 26, 2020.
Cindy S. Barger,
Director, NEPA Compliance Division, Office of Federal Activities.

[FR Doc. 2020-24059 Filed 10-29-20; 8:45 am]

BILLING CODE 6560-50-P